DEPARTMENT OF HOMELAND SECURITY

Bureau of Customs and Border Protection

Automated Commercial Environment (ACE): National Customs Automation Program Test of Automated Truck Manifest

AGENCY: Customs and Border Protection; Department of Homeland Security.

ACTION: General notice.

SUMMARY: This document provides a modification to the Bureau of Customs and Border Protection's (CBP) National Customs Automation Program (NCAP) test, announced in conjunction with the Department of Transportation, Federal Motor Carrier Safety Administration, concerning the transmission of automated truck manifest data. The original notice announcing this test stated that the transmission of certain data elements is requested, but not required. This notice emphasizes that all relevant data elements (with a single exception, as explained in this notice) are required to be submitted in the automated truck manifest submission. Additionally, this notice re-publishes the data elements required for participation in the test.

FOR FURTHER INFORMATION CONTACT: Mr. Jeremy Baskin, Office of Regulations and Rulings, via e-mail at jeremy.baskin@dhs.gov.

SUPPLEMENTARY INFORMATION:

Background

On September 13, 2004, Customs and Border Protection (CBP) published a General Notice in the Federal Register (69 FR 55167) announcing a test allowing participating Truck Carrier Accounts to transmit electronic manifest data in the Automated Commercial Environment (ACE), including advance cargo information as required by the final rule published by CBP to implement section 343 of the Trade Act of 2002, as amended by the Maritime Transportation Security Act of 2002 (see 68 FR 68140, December 5, 2003). Truck Carrier Accounts participating in the test have the ability to electronically transmit the truck manifest data and obtain release of their cargo, crew, conveyances, and equipment via the ACE Portal or electronic data interchange (EDI) messaging. The Department of Transportation, Federal Motor Carrier Safety Administration (FMCSA) is participating in the test.

The September 13, 2004, test notice stated that twelve data items were required under the test so as to be in compliance with advance electronic cargo information requirements as provided in the final rule, published by CBP at 68 FR 68175. These data items appear as numbers 1 through 12 on the list re-published in this document.

Additionally, the September 13, 2004, notice provided that, for purposes of the test, 18 additional data elements having primarily to do with crew information and conveyance type were “requested (although not required * * *).” While CBP intended that these data elements (numbers 13 through 30 on the re-published list) also be required for purposes of the test, this was unclear. Accordingly, the purpose of this notice is to modify the original test notice by clearly setting forth that these data elements are required for the test and not merely “requested.”

Another 40 data elements having primarily to do with information concerning passengers, insurance, in-bond, and hazardous material are made conditional by the test and those elements are also required where applicable (where the conditions would require their submission). These “conditional” data elements are listed as numbers 31 through 70 on the re-published list. Of these 40 data elements only a single data element, described as “Marks and numbers (on packaging to be distinguished from numbers required by advance cargo information)” is considered to be an optional data element that may be submitted upon the discretion of the submitting party. This “optional” data element appears as number 70 on the re-published list.

Data Elements To Be Required on the Electronic Manifest

The list of data elements set forth below is consistent with the list of data elements published in the September 13, 2004, General Notice. The only difference between the two lists is that this list clearly states that items 13 through 69 are required.

(1) Conveyance number, and (if applicable) equipment number (the number of the conveyance is its Vehicle Identification Number (VIN) or its license plate number and State of issuance; the equipment number, if applicable, refers to the identification number of any trailing equipment or container attached to the power unit. For purposes of this test, both the VIN and the license plate number are required);

(2) Carrier identification (i.e., the truck carrier identification SCAC code (the unique Standard Carrier Alpha Code) assigned for each carrier by the National Motor Freight Traffic Association);

(3) Trip number and, if applicable, the transportation reference number for each shipment (The transportation reference number is the freight bill number, or Pro Number, if such a number has been generated by the carrier. For purposes of this test the SCN and, if applicable, the associated BCNs are required);

(4) Container number(s) (for any containerized shipment, if different from the equipment number), and the seal numbers for all seals affixed to the equipment or container(s) (For purposes of this test, seal numbers will be enforced in FAST on the southern border);

(5) The foreign location where the truck carrier takes possession of the cargo destined for the U.S.;

(6) The scheduled date and time of arrival of the truck at the first port of entry in the U.S.;

(7) The numbers and quantities for the cargo laden aboard the truck as contained in the bill(s) of lading (this means the quantity of the lowest external packaging unit; numbers referencing only containers and pallets do not constitute acceptable information; for example, a container holding 10 pallets with 200 cartons should be described as 200 cartons);

(8) The weight of the cargo, or, for a sealed container, the shipper's declared weight of the cargo;

(9) A precise description of the cargo and/or the Harmonized Tariff Schedule (HTS) numbers to the 6-digit level under which the cargo will be classified. (Generic descriptions, specifically those such as freight of all kinds (FAK), general cargo, and said to contain (STC) are not acceptable.);

(10) Internationally recognized hazardous material code when such cargo is being shipped by truck;

(11) The shipper's complete name and address, or identification number (The identity of the foreign vendor, supplier, manufacturer, or other similar party is acceptable (and the address of the foreign vendor, etc., must be a foreign address). By contrast, the identity of the carrier, freight forwarder, consolidator, or broker, is not acceptable. The identification number will be a unique number to be assigned by CBP upon the implementation of the Automated Commercial Environment.); and

(12) The complete name and address of the consignee, or identification number (The consignee is the party to whom the cargo will be delivered in the U.S., with the exception of Foreign Cargo Remaining On Board (FROB)). The identification number will be a unique number assigned by CBP upon implementation of the Automated Commercial Environment);

(13) DOT number;

(14) Person on arriving conveyance who is in charge;

(15) Names of all crew members;

(16) Date of birth of each crew member;

(17) Commercial driver's license (CDL)/drivers license number for each crew member;

(18) CDL/driver's license State/province of issuance for each crew member;

(19) CDL country of issuance for each crew member;

(20) Travel document number for each crew member;

(21) Travel document country of issuance for each crew member;

(22) Travel document State/province of issuance for each crew member;

(23) Travel document type for each crew member;

(24) Address for each crew member (For purposes of this test, this is defined as the physical location, in the U.S., where a crew member will actually be on this particular trip. This could include a consignee's location, a hotel, a truck stop, or a family or friend's location. Those individuals possessing a FAST ID are exempt from the U.S. address requirement.);

(25) Gender of each crew member;

(26) Nationality/citizenship of each crew member;

(27) Method of transport (defined as the mode by which the merchandise crosses the international border);

(28) Conveyance type;

(29) Conveyance State/province of registration; and

(30) Equipment State/province of registration.

The submission of the following information is considered conditional and is required only where applicable:

(31) Hazmat endorsement for each crew member;

(32) Names of all passengers;

(33) Date of birth of each passenger;

(34) Travel document number for each passenger;

(35) Travel document country of issuance for each passenger;

(36) Travel document State/province of issuance for each passenger;

(37) Travel document type for each passenger;

(38) Gender of each passenger;

(39) Nationality of each passenger;

(40) Import/export/in-transit indicator;

(41) Conveyance country of registration;

(42) Conveyance insurance company name;

(43) Conveyance insurance policy number;

(44) Year of issuance;

(45) Insurance amount;

(46) Transponder number;

(47) Shipment release type;

(48) Equipment type;

(49) Equipment country of registration;

(50) Conveyance or equipment instrument of international traffic indicator;

(51) Estimated date of U.S. departure (for use with T&E or IE);

(52) In-bond destination;

(53) Onward carrier (the SCAC code of the carrier to whom the In-bond goods are being transferred);

(54) Foreign port of unloading;

(55) Place of receipt;

(56) Service type (the type of shipping contract);

(57) Party, ID number, and type (for any other party to the transaction listed on the trucker's bill of lading);

(58) C-4 code;

(59) Shipment identifier (any number that the carrier may wish to pass on to the broker (i.e., purchase order, commercial invoice, etc.));

(60) Paperless in-bond number;

(61) In-bond CF-7512 number;

(62) Bonded carrier ID number;

(63) Transfer carrier (intended to be the cartman, local carrier);

(64) Transfer destination firms code;

(65) Hazmat contact;

(66) FDA freight indicator (identifies FDA jurisdiction over the shipment; this is not the prior notice requirement as set forth in the Bio-Terrorism Act);

(67) Country of origin of the cargo;

(68) Value; and

(69) Entry type code.

The submission of the following information is considered optional upon the discretion of the submitting party:

(70) Marks and numbers (on packaging to be distinguished from numbers required by advance cargo information).

Previous Notices

All requirements and aspects of the test discussed in previous notices, except to the extent expressly modified by this new notice, are hereby incorporated by reference into this notice and continue to be applicable. Examples of such requirements and aspects are the rules regarding misconduct under the test and the required evaluation of the test (both of which are detailed in the notice published at 69 FR 55167).

Dated: March 15, 2005.
Jayson P. Ahern,
Assistant Commissioner, Office of Field Operations.

[FR Doc. 05-5546 Filed 3-18-05; 8:45 am]

BILLING CODE 4820-02-P